DEPARTMENT OF TRANSPORTATION

Federal Aviation Administration

14 CFR Part 39

[Docket No. FAA-2019-0536; Product Identifier 2018-CE-054-AD; Amendment 39-21186; AD 2020-16-02]

RIN 2120-AA64

Airworthiness Directives; Pilatus Aircraft Ltd. Airplanes

AGENCY: Federal Aviation Administration (FAA), Department of Transportation (DOT).

ACTION: Final rule.

SUMMARY: The FAA is adopting a new airworthiness directive (AD) for Pilatus Aircraft Ltd. Models PC-6, PC-6/350, PC-6/350-H1, PC-6/350-H2, PC-6/A, PC-6/A-H1, PC-6/A-H2, PC-6/B-H2, PC-6/B1-H2, PC-6/B2-H2, PC-6/B2-H4, PC-6/C-H2, PC-6/C1-H2, PC-6-H1, and PC-6-H2 airplanes. This AD results from mandatory continuing airworthiness information (MCAI) issued by an aviation authority of another country to identify and correct an unsafe condition on an aviation product. The MCAI describes the unsafe condition as rudder shaft assemblies with incorrect rivet configurations. The FAA is issuing this AD to address the unsafe condition on these products.

DATES: This AD is effective September 9, 2020.

The Director of the Federal Register approved the incorporation by reference of a certain publication listed in the AD as of September 9, 2020.

ADDRESSES: For service information identified in this AD, contact Pilatus Aircraft Ltd., Customer Technical Support (MCC), P.O. Box 992, CH-6371 Stans, Switzerland; phone: +41 (0)41 619 67 74; fax: +41 (0)41 619 67 73; email: techsupport@pilatus-aircraft.com; internet: https://www.pilatus-aircraft.com. You may view this referenced service information at the FAA, Airworthiness Products Section, Operational Safety Branch, 901 Locust, Kansas City, Missouri 64106. For information on the availability of this material at the FAA, call (816) 329-4148. It is also available on the internet at https://www.regulations.gov by searching for and locating Docket No. FAA-2019-0536.

Examining the AD Docket

You may examine the AD docket on the internet at https://www.regulations.gov by searching for and locating Docket No. FAA-2019-0536; or in person at Docket Operations between 9 a.m. and 5 p.m., Monday through Friday, except Federal holidays. The AD docket contains this final rule, the NPRM, any comments received, and other information. The street address for Docket Operations is U.S. Department of Transportation, Docket Operations, M-30, West Building Ground Floor, Room W12-140, 1200 New Jersey Avenue SE, Washington, DC 20590.

FOR FURTHER INFORMATION CONTACT: Doug Rudolph, Aerospace Engineer, FAA, Small Airplane Standards Branch, 901 Locust, Room 301, Kansas City, Missouri 64106; telephone: (816) 329-4059; fax: (816) 329-4090; email: doug.rudolph@faa.gov.

SUPPLEMENTARY INFORMATION:

Discussion

The FAA issued a notice of proposed rulemaking (NPRM) to amend 14 CFR part 39 by adding an AD that would apply to Pilatus Aircraft Ltd. Models PC-6, PC-6/350, PC-6/350-H1, PC-6/350-H2, PC-6/A, PC-6/A-H1, PC-6/A-H2, PC-6/B-H2, PC-6/B1-H2, PC-6/B2-H2, PC-6/B2-H4, PC-6/C-H2, PC-6/C1-H2, PC-6-H1, and PC-6-H2 airplanes. The NPRM was published in the Federal Register on July 5, 2019 (84 FR 32099). The NPRM proposed to correct an unsafe condition for the specified products and was based on AD No. 2018-0222, dated October 19, 2018, issued by the European Aviation Safety Agency (EASA), which is the Technical Agent for the Member States of the European Community (referred to after this as “the MCAI”). The MCAI states:

During a recent check flight with a PC-6, the pilot experienced loss of rudder control. The consequent precautionary landing resulted in a runway excursion and damage to the aeroplane, but without serious injuries to the occupants. The post-event inspection of the affected rudder shaft assembly found an incorrect rivet configuration. Subsequent investigation results identified that the tapered pins had been replaced with an insufficient quantity of rivets of unknown origin, which effectively constituted a modification that does not conform to any of the three different Pilatus-approved configurations. Prompted by this event, five more aeroplanes were inspected and various non-standard rivet configurations were found in the same area. It cannot be excluded that more PC-6 aeroplanes have had a similar modification applied.

This condition, if not detected and corrected, could lead to failure or loss of rivets, possibly resulting in reduced control of the aeroplane.

To address this potential unsafe condition, Pilatus Aircraft Ltd issued the [service bulletin] SB to provide inspection instructions.

For the reasons described above, this [EASA] AD requires a one-time inspection of the affected part to determine the rivet configuration and, depending on findings, accomplishment of applicable corrective action(s). This [EASA] AD also requires inspection of affected parts held as spare, and depending on findings, corrective action(s), prior to installation.

You may examine the MCAI on the internet at https://www.regulations.gov by searching for and locating Docket No. FAA-2019-0536.

Comments

The FAA gave the public the opportunity to participate in developing this AD. The FAA received no comments on the NPRM or on the determination of the cost to the public.

Conclusion

The FAA reviewed the relevant data and determined that air safety and the public interest require adopting the AD as proposed.

Related Service Information Under 1 CFR Part 51

The FAA reviewed Pilatus PC-6 Service Bulletin No. 27-006, Rev. No. 1, dated September 4, 2018. The service information contains procedures for inspecting the rivet configuration on the rudder shaft assembly for size, quantity, location, and type and contacting Pilatus to obtain repair instructions if any discrepancies are found. This service information is reasonably available because the interested parties have access to it through their normal course of business or by the means identified in the ADDRESSES section.

Costs of Compliance

The FAA estimates that this AD will affect 30 products of U.S. registry. The FAA also estimates that it will take about 7 work-hours per product to comply with the inspection requirement of this AD. The average labor rate is $85 per work-hour.

Based on these figures, the FAA estimates the cost of this AD on U.S. operators to be $17,850, or $595 per product.

Since the repair instructions could vary significantly from airplane to airplane if discrepancies are found during the inspections, the FAA has no way of determining the number of products that may need follow-on actions or what the cost per product would be.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2020-16-02 Pilatus Aircraft Ltd.: Amendment 39-21186; Docket No. FAA-2019-0536; Product Identifier 2018-CE-054-AD.

(a) Effective Date

This AD becomes effective September 9, 2020.

(b) Affected ADs

None.

(c) Applicability

This AD applies to Pilatus Aircraft Ltd. (Pilatus) Models PC-6, PC-6/350, PC-6/350-H1, PC-6/350-H2, PC-6/A, PC-6/A-H1, PC-6/A-H2, PC-6/B-H2, PC-6/B1-H2, PC-6/B2-H2, PC-6/B2-H4, PC-6/C-H2, PC-6/C1-H2, PC-6-H1, and PC-6-H2 airplanes, all serial numbers, certificated in any category.

Note 1 to paragraph (c) of this AD: These airplanes may also be identified as Fairchild Republic Company airplanes, Fairchild Heli Porter airplanes, or Fairchild-Hiller Corporation airplanes.

(d) Subject

Air Transport Association of America (ATA) Code 55: Stabilizers.

(e) Reason

This AD was prompted by mandatory continuing airworthiness information (MCAI) originated by an aviation authority of another country to identify and correct an unsafe condition on an aviation product. The MCAI describes the unsafe condition as rudder shaft assemblies with incorrect rivet configuration. The FAA is issuing this AD to prevent rudder shaft assembly failure, which could result in reduced control of the airplane.

(f) Actions and Compliance

Unless already done, do the following actions in paragraphs (f)(1) and (2) of this AD:

(1) Within the next 100 hours time-in-service after September 9, 2020 (the effective date of this AD) or within the next 12 months after September 9, 2020 (the effective date of this AD), whichever occurs first, inspect the rudder shaft assembly for proper rivet configuration and repair any discrepancies before further flight in accordance with the Accomplishment Instructions—Part 1, paragraph 3.B. and table 1, of Pilatus PC-6 Service Bulletin No: 27-006, Rev. No. 1, dated September 4, 2018.

(2) After September 9, 2020 (the effective date of this AD), do not install a rudder shaft assembly on any airplane unless it has been inspected in accordance with paragraph (f)(1) of this AD and found to be free of discrepancies or all discrepancies have been repaired or replaced.

(g) Alternative Methods of Compliance (AMOCs)

The Manager, Small Airplane Standards Branch, FAA, has the authority to approve AMOCs for this AD, if requested using the procedures found in 14 CFR 39.19. Send information to ATTN: Doug Rudolph, Aerospace Engineer, FAA, Small Airplane Standards Branch, 901 Locust, Room 301, Kansas City, Missouri 64106; telephone: (816) 329-4059; fax: (816) 329-4090; email: doug.rudolph@faa.gov. Before using any approved AMOC on any airplane to which the AMOC applies, notify your appropriate principal inspector (PI) in the FAA Flight Standards District Office (FSDO), or lacking a PI, your local FSDO.

(h) Related Information

Refer to MCAI European Aviation Safety Agency AD No. 2018-0222, dated October 19, 2018, for related information. The MCAI can be found in the AD docket on the internet at: https://www.regulations.gov by searching for and locating Docket No. FAA-2019-0536.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Pilatus PC-6 Service Bulletin No: 27-006, Rev. No. 1, dated September 4, 2018.

(ii) [Reserved]

(3) For service information identified in this AD, contact Pilatus Aircraft Ltd., Customer Technical Support (MCC), P.O. Box 992, CH-6371 Stans, Switzerland; phone: +41 (0)41 619 67 74; fax: +41 (0)41 619 67 73; email: techsupport@pilatus-aircraft.com; internet: https://www.pilatus-aircraft.com.

(4) You may view this service information at the FAA, Airworthiness Products Section, Operational Safety Branch, Airworthiness Products Section, 901 Locust, Kansas City, Missouri 64106. For information on the availability of this material at the FAA, call (816) 329-4148. It is also available on the internet at https://www.regulations.gov by searching for and locating Docket No. FAA-2019-0536.

(5) You may view this service information that is incorporated by reference at the National Archives and Records Administration (NARA). For information on the availability of this material at NARA, email: fedreg.legal@nara.gov, or go to: https://www.archives.gov/federal-register/cfr/ibr-locations.html.

Issued on July 28, 2020.
Gaetano A. Sciortino,
Deputy Director for Strategic Initiatives, Compliance & Airworthiness Division, Aircraft Certification Service.

[FR Doc. 2020-16989 Filed 8-4-20; 8:45 am]

BILLING CODE 4910-13-P